DEPARTMENT OF LABOR

Mine Safety and Health Administration

Petitions for Modification

The following parties have filed petitions to modify the application of existing safety standards under section 101(c) of the Federal Mine Safety and Health Act of 1977.

1. A B & J Coal Company, Inc.

[Docket No. M-2001-085-C]

A B & J Coal Company, Inc., PO Box 35, Vansant, Virginia 24656 has filed a petition to modify the application of 30 CFR 75.1710-1 (canopies or cabs; self-propelled diesel-powered and electric face equipment; installation requirements) to its Mine No. 2 (I.D. No. 44-06828) located in Buchanan County, Virginia. The petitioner proposes to operate self-propelled electric face equipment without cabs or canopies in seam heights of 48 inches or less. The petitioner asserts that application of the existing standard would result in a diminution of safety to the miners.

2. McElroy Coal Company

[Docket No. M-2001-086-C]

McElroy Coal Company, Consol Plaza, 1800 Washington Road, Pittsburgh, Pennsylvania 15241-1421 has filed a petition to modify the application of 30 CFR 75.1002 (location of trolley wires, trolley feeder wires, high-voltage cables and transformers) to its McElroy Mine (I.D. No. 46-01437) located in Marshall County, West Virginia. The petitioner proposes to use high-voltage (4,160-volt) cables inby the last open crosscut. The petitioner asserts that the proposed alternative method would provide at least the same measure of protection as the existing standard.

3. Maple Creek Mining, Inc.

[Docket No. M-2001-087-C]

Maple Creek Mining, Inc., 981 Route 917, Bentleyville, Pennsylvania 15314 has filed a petition to modify the application of 30 CFR 75.804(a) (underground high-voltage cables) to its High Quality Mine (I.D. No. 36-08375) located in Washington County, Pennsylvania. The petitioner proposes to use a high-voltage cable with an internal ground check conductor smaller than No. 10 AWG. The petitioner states that high-voltage cables would be SHD+CG cable, manufactured to ICEA Standard S-75-381 for Type SHD three-conductor cables (except that it would have an insulated flexible center ground check conductor having a cross-sectional area of not less than 1,800 circular mils), accepted by MSHA as flame-resistant, and with symmetrical 3/C, G/G and 1/GC construction; that all electrical personnel who perform maintenance on the longwall will receive training on installing and repairing the cables prior to implementation; and that a revised Part 48 training plan, specifying task training and review of the terms and conditions for the affected miners, would be submitted to the District Manager. The petitioner asserts that the proposed alternative method would provide at least the same measure of protection as the existing standard.

4. Maple Creek Mining, Inc.

[Docket No. M-2001-088-C]

Maple Creek Mining, Inc., 981 Route 917, Bentleyville, Pennsylvania 15314 has filed a petition to modify the application of 30 CFR 75.1002 (location of trolley wires, trolley feeder wires, high-voltage cables and transformers) to its High Quality Mine (I.D. No. 36-08375) located in Washington County, Pennsylvania. The petitioner proposes to use high-voltage (4,160-volt) cables inby the last open crosscut. The petitioner asserts that the proposed alternative method would provide at least the same measure of protection as the existing standard.

5. Maple Creek Mining, Inc.

[Docket No. M-2001-089-C]

Maple Creek Mining, Inc., 981 Route 917, Bentleyville, Pennsylvania 15314 has filed a petition to modify the application of 30 CFR 75.1700 (oil and gas wells) to its High Quality Mine (I.D. No. 33-08375) located in Washington County, Pennsylvania. The petitioner proposes to plug and mine through oil and gas wells. The petitioner asserts that the proposed alternative method would provide at least the same measure of protection as the existing standard.

6. Maple Creek Mining, Inc.

[Docket No. M-2001-090-C]

Maple Creek Mining, Inc., 981 Route 917, Bentleyville, Pennsylvania 15314 has filed a petition to modify the application of 30 CFR 75.350 (air courses and belt haulage entries) to its High Quality Mine (I.D. No. 36-08375) located in Washington County, Pennsylvania. The petitioner requests a modification of the existing standard to allow belt air coursed through belt haulage entries to be used to ventilate active working places. The petitioner proposes to install a carbon monoxide monitoring system as an early warning fire detection system in all belt entries used to course intake air to a working place. The petitioner asserts that the proposed alternative method would provide at least the same measure of protection as the existing standard.

7. Alex Energy, Inc.

[Docket No. M-2001-091-C]

Alex Energy, Inc., P.O. Box 857, Summersville, West Virginia 26651 has filed a petition to modify the application of 30 CFR 75.350 (air courses and belt haulage entries) to its Sugarcamp Mine (I.D. No. 46-08745) located in Nicholas County, West Virginia. The petitioner requests a modification of the existing standard to allow belt air coursed through belt haulage entries to be used to ventilate active working places. The petitioner proposes to install a carbon monoxide monitoring system as an early warning fire detection system in all belt entries used to course intake air to a working place. The petitioner asserts that the proposed alternative method would provide at least the same measure of protection as the existing standard.

8. 3-D Management Service, Inc.

[Docket No. M-2001-092-C]

3-D Management Service, Inc., PO Box 186, Madison, West Virginia 25130 has filed a petition to modify the application of 30 CFR 75.503 (permissible electric face equipment; maintenance) and 18.41(f) (plug and receptacle-type connectors) to its Tiny Creek No. 2 Mine (I.D. No. 46-08835) located in Lincoln County, West Virginia. The petitioner proposes to use a threaded ring and a spring-loaded device instead of a padlock on mobile battery-powered machines to prevent the plug connector from accidentally disengaging while under load. The petitioner asserts that application of the existing standard would result in a diminution of safety to the miners and that the proposed alternative method would provide at least the same measure of protection as the existing standard.

9. Consolidation Coal Company

[Docket No. M-2001-093-C]

Consolidation Coal Company, Consol Plaza, 1800 Washington Road, Pittsburgh, Pennsylvania 15241-1421 has filed a petition to modify the application of 30 CFR 75.364(b)(4) (weekly examination) to its Shoemaker Mine (I.D. No. 46-01436) located in Marshall County, West Virginia. Due to deteriorating roof and rib conditions of the six seals in 1 South of the intake air course, traveling this areas would be unsafe. The petitioner proposes to establish designated check points and have a certified person examined these check points on a daily basis to monitor for methane and to ensure safe air passage. The petitioner asserts that the proposed alternative method would provide at least the same measure of protection as the existing standard.

10. Bledsoe Coal Corporation

[Docket No. M-2001-094-C]

Bledsoe Coal Corporation, 1374 Highway 192 East, London, Kentucky 40741 has filed a petition to modify the application of 30 CFR 75.1711-1 (sealing of shaft openings) to its Mine No. 60 (I.D. No. 15-12941) located in Leslie County, Kentucky. The petitioner proposes to use an alternative method to establish a more permanent resolution for sealing shaft openings that would protect the general public from vandalism or accidents at the Mine No. 60, and establish an alternative method for reclamation requirements from the Department of Reclamation and Enforcement, due to the remote location of the shaft and the unfeasibility of obtaining material to backfill the shaft. The petitioner states that the Mine No. 60 has ceased production and portals have been backfilled; that the shaft has been sealed with a 17-inch concrete cap that is equipped with a vent pipe of 2-inches in diameter, at a distance of 15 feet above the surface of the shaft; and that the proposed alternative method would be sufficient to sustain the loads that occur from the reclamation material and any other possible load situations. The petitioner has provided with this petition 3-sets of drawings that detail how the 18-inch shaft will be permanently sealed. The petitioner asserts that the proposed alternative method would provide at least the same measure of protection as the existing standard.

11. Leeco, Inc.

[Docket No. M-2001-095-C]

Leeco, Inc., P.O. Box 309, Jeff, Kentucky 41751 has filed a petition to modify the application of 30 CFR 75.900 (low- and medium-voltage circuits serving three-phase alternating current equipment; circuit breakers) to its No. 68 Mine (I.D. No. 15-17497) located in Perry County, Kentucky; and its No. 78 Mine (I.D. No. 15-17816) located in Knott County, Kentucky. The petitioner proposes to a alternate method to meet the requirements of under-voltage protection. The petitioner proposes for under-voltage protection a maximum nominal voltage of the belt conveyor drive and water pump circuit(s) not to exceed 995 volts, nominal voltage of the belt conveyor drive control and water pump control circuit(s) not to exceed 120 volts, vacuum contactors built into or permanently affixed to the transformer enclosure and properly separated and isolated from the other components of the unit, and provide under-voltage protection for belt drive(s) and water pump motors that are greater than 5 horsepower for vacuum contactors that have associated protective relays. The petitioner has listed in this petition additional specific procedures that would be followed when its proposed alternative method is implemented. The petitioner asserts that the proposed alternative method would provide at least the same measure of protection as the existing standard.

12. Leeco, Inc.

[Docket No. M-2001-096-C]

Leeco, Inc., PO Box 309, Jeff, Kentucky 41751 has filed a petition to modify the application of 30 CFR 77.214(a) (refuse piles; general) to its No. 64 Mine (I.D. No. 15-16353) located in Perry County, Kentucky. The petitioner proposes to place refuse over previously abandoned and reclaimed mines. The petitioner asserts that the proposed alternative method would provide at least the same measure of protection as the existing standard.

13. American Energy Corporation

[Docket No. M-2001-097-C]

American Energy Corporation, PO Box 5, Alledonia, Ohio 43902 has filed a petition to modify the application of 30 CFR 75.1700 (oil and gas wells) to its Century Mine (I.D. No. 33-01070) located in Belmont County, Ohio. The petitioner proposes to plug and mine through oil and gas wells at the Century Mine using the specific procedures outlined in this petition for modification. The petitioner asserts that the proposed alternative method would provide at least the same measure of protection as the existing standard.

14. Kennecott Utah Copper Corporation

[Docket No. M-2001-004-M]

Kennecott Utah Copper Corporation, 8362 West 10200 South, Bingham Canyon, Utah 84006-0351 has filed a petition to modify the application of 30 CFR 56.14109 (unguarded conveyors with adjacent travelways) to its Bingham Canyon Mine (I.D. No. 42-00149) located in Salt Lake County, Utah. The petitioner requests a modification of the existing standard to allow emergency stop devices in the form of a hand-held portable radio to be used at those portions of the Bingham Canyon Mine's Mine-Concentrator Conveyor where pull-cords or railings are not located, which when activated through a single push-button at any position along the beltway, will deactivate the conveyor motor and stop the belt. The petitioner asserts that application of the existing standard would result in a diminution of safety to the miners and that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before November 13, 2001. Copies of these petitions are available for inspection at that address.

Dated at Arlington, Virginia this 4th day of October 2001.
David L. Meyer,
Director, Office of Standards, Regulations, and Variances.

[FR Doc. 01-25691 Filed 10-11-01; 8:45 am]

BILLING CODE 4510-43-P